DEPARTMENT OF COMMERCE

National Oceanic and Atmospheric Administration

[I.D. 053006A]

U.S. Climate Change Science Program Synthesis and Assessment Product Prospectuses

AGENCY: National Oceanic and Atmospheric Administration (NOAA), Department of Commerce.

ACTION: Notice of availability and request for public comments.

SUMMARY: The National Oceanic and Atmospheric Administration publish this notice to announce the availability of draft Prospectuses for three of the U.S. Climate Change Science Program (CCSP) Synthesis and Assessment Products (Products) for public comment. These draft Prospectuses address the following CCSP Topics:

Product 4.4 Preliminary Review of Adaptation Options for Climate-Sensitive Ecosystems and Resources;

Product 4.6 Analyses of the Effects of Global Change on Human Health and Welfare and Human Systems; and

Product 5.2 Best Practice Approaches for Characterizing, Communicating and Incorporating Scientific Uncertainty in Climate Decision Making.

After consideration of comments received on the draft Prospectuses, the final Prospectuses along with the comments received will be published on the CCSP web site.

DATES: Comments must be received by July 12, 2006.

ADDRESSES: The draft Prospectuses is posted on the CCSP Program Office web site. The web addresses to access the draft Prospectuses are:

Product 4.4 (Ecosystems):

http://www.climatescience.gov/Library/sap/sap4-4/default.htm

Product 4.6 (Health):

http://www.climatescience.gov/Library/sap/sap4-6/default.htm

Product 5.2 (Uncertainty)

http://www.climatescience.gov/Library/sap/sap5-2/default.htm

Detailed instructions for making comments on the draft Prospectuses are provided with each Prospectus. Comments should be prepared in accordance with these instructions.

FOR FURTHER INFORMATION CONTACT: Vanessa Richardson, Climate Change Science Program Office, 1717 Pennsylvania Avenue NW, Suite 250, Washington, DC 20006, Telephone: (202) 419-3465.

SUPPLEMENTARY INFORMATION: The CCSP was established by the President in 2002 to coordinate and integrate scientific research on global change and climate change sponsored by 13 participating departments and agencies of the U.S. Government. The CCSP is charged with preparing information resources that support climate-related discussions and decisions, including scientific synthesis and assessment analyses that support evaluation of important policy issues. The Prospectuses addressed by this notice provide a topical overview and describe plans for scoping, drafting, reviewing, producing, and disseminating three of 21 final synthesis and assessment Products that will be produced by the CCSP.

Dated: June 5, 2006.
Conrad C. Lautenbacher, Jr.,
Vice Admiral, U.S. Navy (Ret.),Under Secretary of Commerce for Oceans and Atmosphere.

[FR Doc. E6-9126 Filed 6-9-06; 8:45 am]

BILLING CODE 3510-12-S